DEPARTMENT OF ENERGY

Federal Energy Regulatory Commission

Combined Notice of Filings

Take notice that the Commission has received the following Natural Gas Pipeline Rate and Refund Report filings:

Filings Instituting Proceedings

Docket Numbers: RP18-7-000.

Applicants: Enable Gas Transmission, LLC.

Description: Annual Report of Total Penalty Revenue Credits of Enable Gas Transmission, LLC.

Filed Date: 10/3/17.

Accession Number: 20171003-5076.

Comments Due: 5 p.m. ET 10/16/17.

Docket Numbers: RP18-8-000.

Applicants: Enable Gas Transmission, LLC.

Description: Annual Report of Linked Firm Service Penalty Revenue Credits of Enable Gas Transmission, LLC.

Filed Date: 10/3/17.

Accession Number: 20171003-5077.

Comments Due: 5 p.m. ET 10/16/17.

Docket Numbers: RP18-9-000.

Applicants: Equitrans, L.P.

Description: § 4(d) Rate Filing: Negotiated Capacity Release Agreements—10/3/2017 to be effective 10/3/2017.

Filed Date: 10/3/17.

Accession Number: 20171003-5092.

Comments Due: 5 p.m. ET 10/16/17.

Docket Numbers: RP18-10-000.

Applicants: Gulf South Pipeline Company, LP.

Description: § 4(d) Rate Filing: Cap Rel Neg Rate Agmt (PH 41455 to Texla 48604) to be effective 10/3/2017.

Filed Date: 10/3/17.

Accession Number: 20171003-5093.

Comments Due: 5 p.m. ET 10/16/17.

Docket Numbers: RP18-11-000.

Applicants: Iroquois Gas Transmission System, L.P.

Description: § 4(d) Rate Filing: 100317 Negotiated Rates—Consolidated Edison Energy Inc. R-2275-12 to be effective 11/1/2017.

Filed Date: 10/3/17.

Accession Number: 20171003-5112.

Comments Due: 5 p.m. ET 10/16/17.

Docket Numbers: RP18-12-000.

Applicants: Iroquois Gas Transmission System, L.P.

Description: § 4(d) Rate Filing: 100317 Negotiated Rates—Consolidated Edison Energy Inc. R-2275-13 to be effective 11/1/2017.

Filed Date: 10/3/17.

Accession Number: 20171003-5113.

Comments Due: 5 p.m. ET 10/16/17.

Docket Numbers: RP18-13-000.

Applicants: Iroquois Gas Transmission System, L.P.

Description: § 4(d) Rate Filing: 100317 Negotiated Rates—Spark Energy Gas, LLC R-3045-21 to be effective 11/1/2017.

Filed Date: 10/3/17.

Accession Number: 20171003-5117.

Comments Due: 5 p.m. ET 10/16/17.

Docket Numbers: RP18-14-000.

Applicants: Iroquois Gas Transmission System, L.P.

Description: § 4(d) Rate Filing: 100317 Negotiated Rates—Spark Energy Gas, LLC R-3045-20 to be effective 11/1/2017.

Filed Date: 10/3/17.

Accession Number: 20171003-5125.

Comments Due: 5 p.m. ET 10/16/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 4, 2017.
Nathaniel J. Davis, Sr.,
Deputy Secretary.

[FR Doc. 2017-22276 Filed 10-13-17; 8:45 am]

BILLING CODE 6717-01-P